DEPARTMENT OF COMMERCE

Foreign-Trade Zones Board

[Order No. 2064]

Reorganization and Expansion of Foreign-Trade Zone 198 Under Alternative Site Framework, Volusia and Flagler Counties, Florida

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, Volusia County, grantee of Foreign-Trade Zone 198, submitted an application to the Board (FTZ DocketB-29-2018, docketed May 7, 2018) for authority to reorganize and expand under the ASF with a service area of Volusia County, Florida, in and adjacent to the Daytona Beach International Airport Customs and Border Protection user-fee airport, and FTZ 198's existing Site 1 (as modified) would be categorized as a magnet site and Sites 2, 3, 4 and 5 would be removed from the zone;

Whereas, notice inviting public comment was given in the Federal Register (83 FR 22005, May 11, 2018) and the application has been processed pursuant to the FTZ Act and the Board's regulations; and,

Whereas, the Board adopts the findings and recommendations of the examiner's report, and finds that the requirements of the FTZ Act and the Board's regulations are satisfied;

Now, therefore, the Board hereby orders:

The application to reorganize and expand FTZ 198 under the ASF is approved, subject to the FTZ Act and the Board's regulations, including Section 400.13, and to the Board's standard 2,000-acre activation limit for the zone.

Dated: October 25, 2018.
Gary Taverman,
Deputy Assistant Secretary for Antidumping and Countervailing Duty Operations, performing the non-exclusive functions and duties of the Assistant Secretary for Enforcement and Compliance, Alternate Chairman, Foreign-Trade Zones Board.

[FR Doc. 2018-23797 Filed 10-30-18; 8:45 am]

BILLING CODE 3510-DS-P